EXPORT-IMPORT BANK

Notice of Open Meeting of Both the Advisory Committee of the Export-Import Bank of the United States (EXIM) and the Sub-Saharan Africa Advisory Committee of the Export-Import Bank of the United States (EXIM)

Summary: The Advisory Committee was established to advise EXIM Bank on its programs and to provide comments for inclusion in the report on competitiveness of the Export-Import Bank of the United States to Congress.

Established by Congress, the Sub-Saharan Africa Advisory Committee provides guidance and advice regarding EXIM Bank policies and programs designed to support the expansion of financing support for U.S. manufactured goods and services in Sub-Saharan Africa.

Time and Place: Wednesday, September 11, 2019 from 9:30 a.m. until 1:45 p.m. A break for lunch will be at the expense of the attendee. Security processing will be necessary for reentry into the building. The meeting will be held at EXIM headquarters in the Main Conference Room—11th Floor, 811 Vermont Avenue NW, Washington, DC 20571.

Agenda: Agenda items include updates for the Advisory Committee members regarding: EXIMs business and products, EXIMs committee overview, and EXIMs potential lapse in authority.

Public Participation: The meeting will be open to public participation, and 15 minutes will be set aside for oral questions or comments. Members of the public may also file written statement(s) before or after the meeting. If you plan to attend, a photo ID must be presented at the guard's desk as part of the clearance process into the building, you may contact India Walker at external@exim.gov to be placed on an attendee list. If any person wishes auxiliary aids (such as a sign language interpreter) or other special accommodations, please email India Walker at external@exim.gov no later than 5:00 p.m. EDT on Thursday, September 5, 2019.

Members of the Press: For members of the Press planning to attend the meeting, a photo ID must be presented at the guard's desk as part of the clearance process into the building. Please email external@exim.gov to be placed on an attendee list.

Further Information: For further information, contact the External Engagement team, 811 Vermont Ave. NW, Washington, DC 20571, at external@exim.gov.

Joyce Brotemarkle Stone,
Assistant Corporate Secretary.

[FR Doc. 2019-17972 Filed 8-20-19; 8:45 am]

BILLING CODE 6690-01-P